ENVIRONMENTAL PROTECTION AGENCY

[ER-FRL-6684-4]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 7, 2006 (71 FR 17845).

Draft EISs

EIS No. 20060155, ERP No. D-NPS-J65461-CO, Great Sand Dunes National and Preserve. General Management Plan/Wilderness Study, Implementation, Alamos and Saguache Counties, CO.

Summary: EPA does not object to the proposed project. Rating LO.

EIS No. 20060203, ERP No. D-BLM-J01081-WY, Maysdorf Coal Lease by Application (LBA) Tract, (Federal Coal Application WYW154432), Implementation, Campbell Counties, WY.

Summary: EPA expressed environmental concerns about the potential for adverse impacts to air quality. The Final EIS should include information demonstrating how compliance with national air quality standards for particulate matter will be achieved and as well as a more detailed mitigation plan. Rating EC2.

EIS No. 20060380, ERP No. D-AFS-J67033-CO, Robin Redbreast Unpatented Lode Claim Mining Plan of Operations, Implementation, U.S. Army COE Section 404 Permit, Located above the Middle Fork of the Cimarron River within the Uncompahgre Wilderness, Ouray Ranger District, Grand Mesa, Uncompahgre and Gunnison National Forests, Hinsdale County, CO.

Summary: EPA expressed environmental concerns about impacts to water quality from acid mine drainage. The Final EIS should include additional analysis of groundwater conditions and flow rates and more information regarding water treatment to meet water quality criteria. Rating EC2.

EIS No. 20060526, ERP No. D-AFS-G65102-NM, Canadian River Tamarisk Control, Proposes to Control the Nonnative Invasive Species Tamarisk (also Known as salt cedar) Cibola National Forest, Canadian River, Harding and Mora Counties, New Mexico.

Summary: EPA does not object to the selection of the preferred alternative. Rating LO.

Final EISs

EIS No. 20060513, ERP No. F-AFS-J61109-CO, Arapahoe Basin 2006 Improvement Plan, Enhancing the Recreational Experience Addressing Lifts, Parking, and Terrain Network, Montezuma Bowl, Implementation, U.S. Army COE 404 Permit, White River National Forest, Summit County, CO.

Summary: The final EIS addressed EPA's previous concerns related to alternatives, visitation impacts and safety. The Final EIS also included a comprehensive analysis of existing conditions and actions to improve water quality, habitat and mitigation for wetlands impacts.

EIS No. 20060516, ERP No. F-AFS-J65423-UT, Reissuance of 10-Year Term Grazing Permits to Continue Authorize Grazing on Eight Cattle Allotments, Permit Reissuing, Beaver Mountain Tushar Range, Millard, Piute, Garfield, Beaver and Iron Counties, UT.

Summary: EPA continues to express environmental concerns about the potential for impacts to water quality and aquatic resources.

EIS No. 20060520, ERP No. F-AFS-J65449-UT, Fishlake National Forest Off-Highway Vehicle Route Designation Project, Proposes to Designate a System of Motorized Road, Trails, and Areas to Revise and Update the Existing Motorized Travel Plan, UT.

Summary: The Final EIS was responsive to EPA's previous concerns about the cumulative impacts analysis and the analysis of existing conditions by adding summary information from integrated riparian surveys and forest monitoring reports.

EIS No. 20060524, ERP No. F-NRC-D03004-VA, Early Site Permit (ESP) at the North Anna Power Station ESP Site (TAC No. MC1128), New and Updated Information, Construction and Operation, NUREG-1811, Louisa County, VA.

Summary: EPA's comments from the Draft EIS and Supplemental EIS were adequately addressed in the Final EIS.

EIS No. 20070004, ERP No. F-NOA-L91028-AK, Alaska Groundfish Harvest Specifications Project, Establish Harvest Strategy for the Bering Sea and Aleutian Islands (BSAI) and Gulf of Alaska (GOA) Groundfish Fisheries, AK.

Summary: EPA does not object to the proposed action.

Dated: February 20, 2007.
Ken Mittelholtz,
Environmental Protection Specialist, Office of Federal Activities.

[FR Doc. E7-3113 Filed 2-22-07; 8:45 am]

BILLING CODE 6560-50-P